DEPARTMENT OF COMMERCE

International Trade Administration

Rice University, et al.; Notice of Consolidated Decision on Applications for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5 p.m. in Room 2104, U.S. Department of Commerce, 14th and Constitution Ave, NW., Washington, DC.

Comments: None received. Decision: Approved. We know of no instruments of equivalent scientific value to the foreign instruments described below, for such purposes as each is intended to be used, that was being manufactured in the United States at the time of its order.

Docket Number: 08-008. Applicant: Rice University, Houston, TX 77005. Instrument: Low Temperature Microscopy Scanning Probe. Manufacturer: Nano Magnetics Instruments, Ltd., Turkey. Intended Use: See notice at 73 FR 18258, April 3, 2008. Reasons: This instrument can supply 300mK scanning Hall probe microscopy with 50 NM special resolution, which is essential to the intended use.

Docket Number: 08-009. Applicant: University of Michigan, Department of Materials Science and Engineering, 2300 Hayward St., Ann Arbor, MI 48109-2136. Instrument: Heating Microscope Optical Dilatometer. Manufacturer: Expert System Solutions, Italy. Intended Use: See notice at 73 FR 18258, April 3, 2008. Reasons: This instrument can be used for sintering shrinkage up to 1600 degrees centigrade, thermal expansion down to room temperature and cristobalite transformation at 215 degrees centigrade. An essential feature of the equipment is that it performs a non-contact optical measurement.

April 24, 2008.
Faye Robinson,
Director, Statutory Import Programs Staff, Import Administration.

[FR Doc. E8-9445 Filed 4-30-08; 8:45 am]

BILLING CODE 3510-DS-M